ENVIRONMENTAL PROTECTION AGENCY

[ER-FRL-9026-1]

Environmental Impact Statements; Notice of Availability

Responsible Agency: Office of Federal Activities, General Information (202) 564-7146 or http://www2.epa.gov/nepa.

Weekly receipt of Environmental Impact Statements

Filed 03/07/2016 Through 03/11/2016

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160059, Draft, NASA, FL, PROGRAMMATIC—Kennedy Space Center, Center-Wide Operations, Comment Period Ends: 05/02/2016, Contact: Don Dankert 321-861-1196.

EIS No. 20160060, Draft, USN, RI, Disposal and Reuse of Surplus Property at Naval Station Newport, Comment Period Ends: 05/02/2016, Contact: James Anderson 843-963-4991.

EIS No. 20160061, Draft, BOEM, LA, Outer Continental Shelf Oil and Gas Leasing Program: 2017-2022, Comment Period Ends: 05/02/2016, Contact: Dr. Jill K. Lewandowski 703-787-1703.

EIS No. 20160062, Draft, ARS, ID, U.S. Sheep Experiment Station Grazing and Associated Activities Project, Comment Period Ends: 05/02/2016, Contact: Christine Handler 559-920-2188.

Dated: March 15, 2016.
Dawn Roberts,
Management Analyst, NEPA Compliance Division, Office of Federal Activities.

[FR Doc. 2016-06155 Filed 3-17-16; 8:45 am]

BILLING CODE 6560-50-P